DEPARTMENT OF DEFENSE

Department of the Air Force

[Docket ID: USAF-2009-0037]

Privacy Act of 1974; System of Records

AGENCY: Department of the Air Force, DoD.

ACTION: Notice to amend a system of records.

SUMMARY: The Department of Air Force proposes to amend a system of records to its inventory of record systems subject to the Privacy Act of 1974 (5 U.S.C. 552a), as amended.

DATES: The changes will be effective on August 3, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: June 25, 2009.
Morgan E. Frazier,
Alternate OSD Federal Register Liaison Officer, Department of Defense.

F036 AETC G

System name:

Status of Ineffective Recruiter. (June 11, 1997, 62 FR 31793).

Changes:

* * * * *

System location:

Delete entry and replace with “Headquarters, Air Force Recruiting Service, 550 D Street, Suite 1, Randolph Air Force Base, TX 78150-4527. Air Force Recruiting activities official mailing addresses are published as an appendix to the Air Force's compilation of systems of records notices.”

Categories of individuals covered by the system:

Delete entry and replace with “Active duty enlisted and officer recruiter personnel relieved from duty.”

Categories of records in the system:

Delete and replace with “Social Security Number (SSN), name, and individual military record.”

Authority for maintenance of the system:

Delete entry and replace with “10 U.S.C. 8013, Secretary of the Air Force; 10 U.S.C. 503, Enlistments; Air Education and Training Command Instruction 36-2001; and E.O. 9397 (SSN).”

Purpose(s):

Delete entry and replace with “Headquarters, Air Force Recruiting Service use data to monitor personnel relieved from duty.”

Routine uses of records maintained in the system, including categories of users and the purposes of such uses:

Delete entry and replace with “In addition to those disclosures generally permitted under 5 U.S.C. 552a(b) of the Privacy Act of 1974, these records contained therein may be specifically disclosed outside the DoD as a routine use pursuant to 5 U.S.C. 552a(b)(3) as follows:

The ‘DoD Blanket Routine Uses’ published at the beginning of the Air Force's compilation of record system notices apply to this system.”

Policies and practices for storing, retrieving, accessing, retaining, and disposing of records in the system:

* * * * *

Safeguards:

Delete entry and replace with “Records are accessed by person(s) responsible for servicing the record system in performance of their official duties. Stored in locked cabinet, locked office, and locked building.”

* * * * *

System manager(s) and address:

Delete entry and replace with “Plans and Resources Division, Headquarters United States Air Force Recruiting Service, 550 D Street West, Randolph Air Force Base, TX 78150-4527.”

Notification procedure:

Delete entry and replace with “Individuals seeking to determine whether this system of records contains information on themselves should address inquiries to the Chief, Plans and Resources Division, Headquarters United States Air Force Recruiting Service, 550 D Street West, Randolph Air Force Base, TX 78150-4527.

Social Security Number and full name are required to determine if the system contains a record relative to any specific individual. Valid proof of identity is required.”

Record access procedures:

Delete entry and replace with “Individuals seeking to access records about themselves contained in this system should address requests to the Chief, Plans and Resources Division, Headquarters United States Air Force Recruiting Service, 550 D Street West, Randolph Air Force Base, TX 78150-4527.

Social Security Number and full name are required to determine if the system contains a record relative to any specific individual. Valid proof of identity is required.”

* * * * *

F036 AETC G

System name:

Status of Ineffective Recruiter

System location:

Headquarters, Air Force Recruiting Service, 550 D Street, Suite 1, Randolph Air Force Base, TX 78150-4527. Air Force Recruiting activities official mailing addresses are published as an appendix to the Air Force's compilation of systems of records notices.

Categories of individuals covered by the system:

Active duty enlisted and officer recruiter personnel relieved from duty.

Categories of records in the system:

Social Security Number (SSN), name, and individual military record.

Authority for maintenance of the system:

10 U.S.C. 8013, Secretary of the Air Force; 10 U.S.C. 503, Enlistments; Air Education and Training Command Instruction 36-2001; and E.O. 9397 (SSN).

Purpose(s):

Headquarters, Air Force Recruiting Service use data to monitor personnel relieved from duty.

Routine uses of records maintained in the system, including categories of users and the purposes of such uses:

In addition to those disclosures generally permitted under 5 U.S.C. 552a(b) of the Privacy Act of 1974, these records or information contained therein may be specifically disclosed outside the DoD as a routine use pursuant to 5 U.S.C. 552a(b)(3) as follows:

The ‘DoD Blanket Routine Uses’ published at the beginning of the Air Force's compilation of record system notices apply to this system.

Policies and practices for storing, retrieving, accessing, retaining, and disposing of records in the system:

Storage:

Maintained in paper file folders.

Retrievability:

Retrieved by name.

Safeguards:

Records are accessed by person(s) responsible for servicing the record system in performance of their official duties. Stored in locked cabinet, locked office and locked building.

Retention and disposal:

Retained in office files for one year after annual cutoff, then destroyed. Records are destroyed by tearing into pieces, shredding, pulping, macerating or burning. Computer records are destroyed by erasing, deleting, or overwriting.

System manager(s) and address:

Plans and Resources Division, Headquarters United States Air Force Recruiting Service, 550 D Street West, Randolph Air Force Base, TX 78150-4527.

Notification procedure:

Individuals seeking to determine whether this system of records contains information on themselves should address inquiries to the Chief, Plans and Resources Division, Headquarters United States Air Force Recruiting Service, 550 D Street West, Randolph Air Force Base, TX 78150-4527.

Social Security Number and full name are required to determine if the system contains a record relative to any specific individual. Valid proof of identity is required.

Record access procedures:

Individuals seeking to access records about themselves contained in this system should address requests to the Chief, Plans and Resources Division, Headquarters United States Air Force Recruiting Service, 550 D Street West, Randolph Air Force Base, TX 78150-4527.

Social Security Number and full name are required to determine if the system contains a record relative to any specific individual. Valid proof of identity is required.

Contesting record procedures:

The Air Force rules for accessing records, and for contesting contents and appealing initial agency determinations are published in Air Force Instruction 37-132; 32 CFR part 806b; or may be obtained from the system manager.

Record source categories:

Information is obtained from source documents, such as reports.

Exemptions claimed for the system:

None.

[FR Doc. E9-15624 Filed 7-1-09; 8:45 am]

BILLING CODE 5001-06-P